ENVIRONMENTAL PROTECTION AGENCY

[FRL-7900-8]

Water Pollution Control; Approval of Modification to Ohio's Approved National Pollutant Discharge Elimination System Permitting Program To Administer a State Sewage Sludge Management Program

AGENCY: Environmental Protection Agency (EPA).

ACTION: Notice; approval of application.

SUMMARY: On March 16, 2005, pursuant to section 402(b) of the Clean Water Act (CWA), the Acting Regional Administrator for EPA, Region 5, approved the State of Ohio's modification of its existing National Pollutant Discharge Elimination System (NPDES) program to include the administration and enforcement of a state sewage sludge management program where it has jurisdiction.

FOR FURTHER INFORMATION CONTACT: John Colletti, at (312) 886-6106, NPDES Programs Branch, (WN-16J), EPA, Region 5, 77 West Jackson Boulevard, Chicago, Illinois 60604-3590, or electronically at colletti.john@epa.gov.

SUPPLEMENTARY INFORMATION: Throughout this document “we,” “us,” or “our” means EPA.

Table of Contents

I Introduction

II Was notice provided seeking public comments on Ohio's program submittal?

III Was a public hearing held?

IV Did EPA receive any public comments?

V Does EPA's approval affect Indian Country (18 U.S.C. 1151) in Ohio?

VI Conclusion

VII Federal Register Notice of Approval of State NPDES Programs or Modifications

VIII Administrative Requirements

A. Endangered Species Act

B. National Historic Preservation Act

C. Other Provisions

I. Introduction

Ohio's application to modify its existing NPDES program to administer and enforce a state sewage sludge management program was submitted on May 12, 2004. Specifically, the state sought approval of a sludge management program which addresses the land application of sewage sludge, surface disposal of sewage sludge, and the landfilling of sewage sludge. The state's sludge management program does not extend to “Indian Country” as defined in 18 U.S.C. 1151, and will not include lands within the exterior boundaries of Indian reservations within or abutting the State of Ohio. Ohio did not seek approval for the incineration of sewage sludge or the land application of domestic septage. The sewage sludge management program is administered by the Ohio Environmental Protection Agency (Ohio EPA). Modifications were made to the program submittal based on discussions between EPA and Ohio EPA. These modifications are part of the record of the program application and review process.

II. Was Notice Provided Seeking Public Comments on Ohio's Program Submittal?

Ohio's application was described in the December 14, 2004 Federal Register at 69 FR 74522-74525, in which EPA requested public comments for a period of 45 days. Further notice was provided by way of publication in the following newspaper on December 14, 2004: The Blade (Toledo), and in the following newspapers on December 15, 2004: The Columbus Dispatch; The Cincinnati Enquirer; The Marietta Times, and; The Plain Dealer (Cleveland) in a effort to get wide coverage throughout the state. Additionally, notices were sent to all Ohio NPDES permitted facilities that would be impacted by the program and to people or organizations that Ohio EPA determined might have an interest in the program application. Copies of Ohio EPA's application package were available for public review at the EPA Region 5 Office and at Ohio EPA's regional offices and on their website.

III. Was a Public Hearing Held?

A public hearing was not held. The above notice explained that a hearing had not been scheduled and how a hearing could be requested. EPA will hold a public hearing whenever the Regional Administrator finds, on the basis of requests, a significant degree of public interest. No request for a hearing was received during the public comment period and therefore, no hearing was held.

IV. Did EPA Receive Any Public Comments?

Pursuant to the public notice, we accepted written comments from the public postmarked on or before January 31, 2005. During the comment period, we received two comments. These commenters fully support the modification of the state's NPDES program to include the administration and enforcement of a sewage sludge management program.

V. Does EPA's Approval Affect Indian Country (18 U.S.C. 1151) in Ohio?

Ohio EPA did not seek approval to administer and enforce the state sewage sludge management program for activities occurring in Indian Country. Our approval does not authorize Ohio EPA to carry out its sewage sludge program in Indian Country. Therefore, our approval of the state's sewage sludge management program will have no effect in Indian Country where EPA continues to implement and administer the NPDES program.

VI. Conclusion

The Ohio Environmental Protection Agency has demonstrated that it adequately meets the requirements for program modification to include sewage sludge management (specifically, the land application of sewage sludge, surface disposal of sewage sludge, and the landfilling of sewage sludge) as defined in the Clean Water Act and 40 CFR parts 123, 501, and 503.

At this time, EPA is withholding authorization to administer the sewage sludge management program for the incineration of sewage sludge, the land application of domestic septage, and activities occurring in Indian Country, as mentioned above.

VII. Federal Register Notice of Approval of State NPDES Programs or Modifications

EPA must provide Federal Register notice of any action by the Agency approving or modifying a State NPDES program. The following table will provide the public with an up-to-date list of the status of NPDES permitting authority throughout the country. Today's Federal Register notice is to announce the approval of Ohio's authority to administer the sewage sludge management program.

State NPDES Program Status
State | Approved State NPDES permit program | Approved to regulate Federal facilities | Approved State pretreatment program | Approved general permits program | Approved sludge management program
Alabama | 10/19/79 | 10/19/79 | 10/19/79 | 06/26/91 |
Arizona | 12/05/02 | 12/05/02 | 12/05/02 | 12/05/02 | 03/31/04
Arkansas | 11/01/86 | 11/01/86 | 11/01/86 | 11/01/86 |
California | 05/14/73 | 05/05/78 | 09/22/89 | 09/22/89 |
Colorado | 03/27/75 |  |  | 03/04/83 |
Connecticut | 09/26/73 | 01/09/89 | 06/03/81 | 03/10/92 |
Delaware | 04/01/74 |  |  | 10/23/92 |
Florida ¹ | 05/01/95 |  | 05/01/95 | 05/01/95 |
Georgia | 06/28/74 | 12/08/80 | 03/12/81 | 01/28/91 |
Hawaii | 11/28/74 | 06/01/79 | 08/12/83 | 09/30/91 |
Illinois | 10/23/77 | 09/20/79 |  | 01/04/84 |
Indiana | 01/01/75 | 12/09/78 |  | 04/02/91 |
Iowa | 08/10/78 | 08/10/78 | 06/03/81 | 08/12/92 |
Kansas | 06/28/74 | 08/28/85 |  | 11/24/93 |
Kentucky | 09/30/83 | 09/30/83 | 09/30/83 | 09/30/83 |
Louisiana | 09/11/96 | 09/11/96 | 09/11/96 | 09/11/96 |
Maine | 01/12/01 | 01/12/01 | 01/12/01 | 01/12/01 |
Maryland | 09/05/74 | 11/10/87 | 09/30/85 | 09/30/91 |
Michigan | 10/17/73 | 12/09/78 | 04/16/85 | 11/29/93 |
Minnesota | 06/30/74 | 12/09/78 | 07/16/79 | 12/15/87 |
Mississippi | 05/01/74 | 01/28/83 | 05/13/82 | 09/27/91 |
Missouri | 10/30/74 | 06/26/79 | 06/03/81 | 12/12/85 |
Montana | 06/10/74 | 06/23/81 |  | 04/29/83 |
Nebraska | 06/12/74 | 11/02/79 | 09/07/84 | 07/20/89 |
Nevada | 09/19/75 | 08/31/78 |  | 07/27/92 |
New Jersey | 04/13/82 | 04/13/82 | 04/13/82 | 04/13/82 |
New York | 10/28/75 | 06/13/80 |  | 10/15/92 |
North Carolina | 10/19/75 | 09/28/84 | 06/14/82 | 09/06/91 |
North Dakota | 06/13/75 | 01/22/90 |  | 01/22/90 |
Ohio | 03/11/74 | 01/28/83 | 07/27/83 | 08/17/92 | 03/16/05
Oklahoma | 11/19/96 | 11/19/96 | 11/19/96 | 09/11/97 | 11/19/96
Oregon | 09/26/73 | 03/02/79 | 03/12/81 | 02/23/82 |
Pennsylvania | 06/30/78 | 06/30/78 |  | 08/02/91 |
Rhode Island | 09/17/84 | 09/17/84 | 09/17/84 | 09/17/84 |
South Carolina | 06/10/75 | 09/26/80 | 04/09/82 | 09/03/92 | 10/22/01
South Dakota | 12/30/93 | 12/30/93 | 12/30/93 | 12/30/93 |
Tennessee | 12/28/77 | 09/30/86 | 08/10/83 | 04/18/91 |
Texas | 09/24/98 | 09/24/98 | 09/24/98 | 09/24/98 | 09/24/98
Utah | 07/07/87 | 07/07/87 | 07/07/87 | 07/07/87 | 06/14/96
Vermont | 03/11/74 |  | 03/16/82 | 08/26/93 |
Virgin Islands | 06/30/76 |  |  |  |
Virginia | 03/31/75 | 02/09/82 | 04/14/89 | 04/20/91 |
Washington | 11/14/73 |  | 09/30/86 | 09/26/89 |
West Virginia | 05/10/82 | 05/10/82 | 05/10/82 | 05/10/82 |
Wisconsin | 02/04/74 | 11/26/79 | 12/24/80 | 12/19/86 | 07/28/00
Wyoming | 01/30/75 | 05/18/81 |  | 09/24/91 |
Totals | 46 | 40 | 34 | 44 | 07
Number of Fully Authorized Programs (Federal Facilities, Pretreatment, General Permits) = 31.
Number of authorized Sludge Management Programs = 7.
¹ The Florida authorizations of 05/01/95 represents a phased NPDES program authorization to be completed by the year 2000.

VIII. Administrative Requirements

A. Endangered Species Act

Section 7(a)(2) of the Endangered Species Act (ESA), 16 U.S.C. 1536(a)(2), requires that federal agencies insure, in consultation with the United States Fish & Wildlife Service (FWS), that actions they authorize, fund, or carry out are not likely to jeopardize the continued existence of Federally-listed threatened or endangered species (listed species) or result in the destruction or adverse modification of critical habitat designated for such listed species.

By letter dated November 24, 2004, we requested concurrence from the Reynoldsburg Ecological Services Field Office of the U.S. Fish and Wildlife Service (FWS) that approval of Ohio EPA to implement a sewage sludge management program would not have any direct effects on federally-listed species or critical habitat as the proposed action is an administrative shift of authority that is not associated with any physical action that will alter habitat or affect biota. We received concurrence on February 7, 2005.

B. National Historic Preservation Act

Section 106 of the National Historic Preservation Act (NHPA), 16 U.S.C. 470(f), requires Federal agencies to take into account the effects of their undertakings on historic properties and to provide the Advisory Council on Historic Preservation (ACHP) an opportunity to comment on such undertakings. Under the ACHP's regulations (36 CFR part 800), agencies consult with the appropriate State Historic Preservation Officer (SHPO) on federal undertakings that have the potential to affect historic properties listed or eligible for listing in the National Register of Historic Places.

By letter dated November 24, 2004, we requested concurrence from the State Historic Preservation Officer that approval of Ohio EPA to implement a sewage sludge management program would not have an adverse impact on historical and archeological resources. We received concurrence on January 4, 2005.

C. Other Provisions

Based on General Counsel Opinion 78-7 (April 18, 1978), EPA has long considered a determination to approve or deny a State Clean Water Act (CWA) program submission to constitute an adjudication because an “approval,” within the meaning of the Administrative Procedure Act (APA), constitutes a “licence,” which, in turn, is the product of an “adjudication.” For this reason, the statutes and Executive Orders that apply to rulemaking action are not applicable here.

Authority for parts 123 and 501: Clean Water Act, 33 U.S.C. 1251 et seq.

Dated: March 31, 2005.
Norman Niedergang,
Acting Regional Administrator, Region 5.

[FR Doc. 05-7578 Filed 4-14-05; 8:45 am]

BILLING CODE 6560-50-P